DEPARTMENT OF TRANSPORTATION

Federal Highway Administration

Notice To Rescind a Notice of Intent for an Environmental Impact Statement: Dane and Columbia Counties, Wisconsin

AGENCY: Federal Highway Administration (FHWA), DOT.

ACTION: Notice to rescind a Notice of Intent for a Tier 1 Environmental Impact Statement.

SUMMARY: A Notice of Intent (NOI) to prepare a Tier 1 Environmental Impact Statement (EIS) was published in the Federal Register Vol. 80 No. 184, Sept. 23, 2015 for a proposed freeway corridor improvement project on Interstate (I)-39/90/94 from the United States Highway (US) 12/18 interchange to the I-39/Wisconsin State Highway (WIS) 78 interchange in Dane and Columbia counties in south-central Wisconsin. The FHWA is issuing this notice to advise the public that FHWA and the Wisconsin Department of Transportation (WisDOT) will no longer prepare a Tier 1 EIS in this corridor due to recent and on-going reprioritization of major transportation projects.

FOR FURTHER INFORMATION CONTACT: Michael Davies, Division Administrator, Federal Highway Administration, 525 Junction Road, Suite 8000, Madison, Wisconsin, 53717-2157, Telephone: (608) 829-7500. You may also contact Steve Krebs, Director, Bureau of Technical Services, Wisconsin Department of Transportation, P.O. Box 7965, Madison, Wisconsin 53707-7965, Telephone: (608) 246-7930.

SUPPLEMENTARY INFORMATION: The FHWA originally issued an NOI to prepare an EIS in the Federal Register Vol. 79 No. 224, Nov. 20, 2014 for an approximately 35-mile freeway corridor improvement project on I-39/90/94 from the United States Highway (US) 12/18 interchange to the I-39/Wisconsin State Highway (WIS) 78 interchange in Dane and Columbia counties in south Central Wisconsin. A revised NOI was published in the Federal Register Vol 80 No. 184, Sept. 23, 2015 to advise the public that FHWA and WisDOT would be preparing a Tier 1 EIS for proposed transportation improvements along the I-39/90/94 corridor, from the US 12/18 Interchange to the I-39/WIS 78 interchange in Dane and Columbia Counties in south-central Wisconsin. As part of the Tier 1 EIS, more detailed analysis for a 6.6 mile portion of the corridor from Columbia County Highway CS to the I-39/WIS 78 interchange (south of Portage) had been planned. The FHWA is issuing this notice to advise the public that FHWA and WisDOT will no longer prepare a Tier 1 EIS for the I-39/90/94 corridor in Dane and Columbia Counties, Wisconsin generally along the I-39/90/94 corridor, from the US 12/18 interchange to the I-39/WIS 78 interchange. The project is being canceled due to recent and on-going reprioritization of major transportation projects. As such the preparation of the Tier 1 EIS for proposed transportation improvements along the I-39/90/94 corridor, from the US 12/18 Interchange to the I-39/WIS 78 interchange in Dane and Columbia Counties in south-central Wisconsin will not be completed. Any future transportation improvements along the corridor, will progress under a separate environmental review process in accordance with all applicable laws and regulations.

(Catalog of Federal Domestic Assistance Program Number 20.205, Highway Planning and Construction. The regulations implementing Executive Order 12372 regarding intergovernmental consultation on Federal programs and activities apply to this program.)

Issued on: March 6, 2017.
Michael Davies,
Division Administrator, FHWA Wisconsin Division, Madison, Wisconsin.

[FR Doc. 2017-05139 Filed 3-14-17; 8:45 am]

BILLING CODE 4910-22-P